DEPARTMENT OF LABOR

Employment and Training Administration

[TA-W-71,047; TA-W-71,047A]

UAW-Chrysler Technical Training Center, Technology Training Joint Programs Staff, Including On-Site Leased Workers From Cranks, O/E Learning, DBSI, IDEA, and Tonic/MVP, Detroit, MI; UAW-Chrysler Technical Training Center, Technology Training Joint Programs Staff, Including On-Site Leased Workers From Cranks, O/E Learning, DBSI, IDEA, and Tonic/MVP, Warren, MI; Amended Revised Determination on Reconsideration

In accordance with Section 223 of the Trade Act of 1974, as amended (“Act”), 19 U.S.C. 2273, the Department of Labor (Department) issued a Revised Determination on Reconsideration on December 22, 2010, applicable to workers and former workers of UAW-Chrysler Technical Training Center, Technology Training Joint Programs Staff, Detroit, Michigan (TA-W-71,047) and Warren, Michigan (TA-W-71,047A). The workers supply technical training services such as applied industrial technology, industrial automation, industrial maintenance and welding. The Department's Notice was published in the Federal Register on January 12, 2011 (76 FR 2147-2148).

The certification was amended on May 18, 2011 include on-site leased workers from Manpower. The amended Notice was published in the Federal Regis on May 27, 2011 (76 FR 30974).

At the request of the State agency, the Department reviewed the certification for workers of the subject firm.

New findings show that workers leased from Manpower were erroneously including in the certification document. Company officials and the State workforce agency have confirmed that only workers leased from Cranks, O/E Learning, DBSI, Idea, and Tonic/MVP were employed on-site at the Detroit, Michigan and Warren, Michigan locations of UAW-Chrysler National Training Center, Technology Training Joint Programs Staff. The Department has determined that these workers were sufficiently under the control of UAW-Chrysler National Training Center, Technology Training Joint Programs Staff to be considered leased workers.

Accordingly, the Department is amending this certification to properly reflect this matter.

The intent of the Department's certification is to include all workers of the subject firm who were adversely affected by increased imports.

The amended notice applicable to TA-W-71,047 and TA-W-71,047A are hereby issued as follows:

“All workers of UAW-Chrysler National Training Center, Technology Training Joint Programs Staff, including on-site leased workers from Cranks, O/E Learning, DBSI, Idea, and Tonic/MVP, Detroit, Michigan (TA-W-71,047) and UAW-Chrysler National Training Center, Technology Training Joint Programs Staff, including on-site leased workers from Cranks, O/E Learning, DBSI, Idea, and Tonic/MVP, Warren, Michigan (TA-W-71,047A), who became totally or partially separated from employment on or after May 27, 2008, through December 22, 2012, and all workers in the group threatened with total or partial separation from employment on date of certification through two years from the date of certification, are eligible to apply for adjustment assistance under Chapter 2 of Title II of the Trade Act of 1974, as amended.”

Signed in Washington, DC, this 9th day of June 2011.
Del Min Amy Chen,
Certifying Officer, Office of Trade Adjustment Assistance.

[FR Doc. 2011-15082 Filed 6-16-11; 8:45 am]

BILLING CODE 4510-FN-P